Title 3—

The President

Proclamation 7328 of July 6, 2000

To Amend the Generalized System of Preferences

By the President of the United States of America

A Proclamation

1. Section 502(c)(7) of the Trade Act of 1974, as amended (the “Trade Act”) (19 U.S.C. 2462(c)(7)), provides that, in determining whether to designate any country a beneficiary developing country under this section, the President shall take into account whether that country has taken or is taking steps to afford internationally recognized worker rights to workers in that country. Section 502(d)(1) of the Trade Act (19 U.S.C. 2462(d)(1)) provides that the President may withdraw, suspend, or limit the application of duty-free treatment under the Generalized System of Preferences (GSP) with respect to any designated beneficiary developing country based on consideration of the factors set forth in sections 501 and 502(c) of the Trade Act (19 U.S.C. 2461 and 2462(c)). Section 502(f)(2) of the Trade Act (19 U.S.C. 2462(f)(2)) requires the President to notify the Congress and the affected country, at least 60 days before termination, of the President's intention to terminate the affected country's designation as a beneficiary developing country for purposes of the GSP.

2. Section 502(e) of the Trade Act (19 U.S.C. 2462(e)) provides that the President shall terminate the designation of a country as a beneficiary developing country if the President determines that such country has become a “high income” country as defined by the official statistics of the International Bank for Reconstruction and Development. Termination is effective on January 1 of the second year following the year in which such determination is made.

3. Pursuant to section 502(d) of the Trade Act, and having considered the factors set forth in sections 501 and 502(c), I have determined that it is appropriate to suspend Belarus's GSP benefits because it has not taken and is not taking steps to afford workers in that country internationally recognized worker rights. In order to reflect the suspension of benefits under the GSP for articles imported from Belarus, I have determined that it is appropriate to modify general note 4(a) of the Harmonized Tariff Schedule of the United States (HTS).

4. Pursuant to section 502(e) of the Trade Act, I have determined that Malta, French Polynesia, New Caledonia, and Slovenia meet the definition of a “high income” country as defined by the official statistics of the International Bank for Reconstruction and Development. Accordingly, pursuant to section 502(e) of the Trade Act, I am terminating the preferential treatment under the GSP for articles that are currently eligible for such treatment and that are imported from Malta, French Polynesia, New Caledonia, and Slovenia, effective January 1, 2002.

5. Section 604 of the Trade Act, as amended (19 U.S.C. 2483), authorizes the President to embody in the HTS the substance of the relevant provisions of that Act, and of other Acts affecting import treatment, and actions thereunder.

NOW, THEREFORE, I, WILLIAM J. CLINTON, President of the United States of America, acting under the authority vested in me by the Constitution and the laws of the United States of America, including but not limited to Title V and section 604 of the Trade Act, do proclaim that:

(1) In order to reflect the suspension of benefits under the GSP with respect to Belarus, general note 4(a) of the HTS is modified by deleting “Belarus” from the list of independent countries, effective with respect to articles entered, or withdrawn from warehouse for consumption, on or after 60 days after the date of publication of this proclamation in the Federal Register.

(2) In order to terminate the designation of Malta, French Polynesia, New Caledonia, and Slovenia as beneficiary developing countries under the GSP, general note 4(a) of the HTS is modified by:

(a) deleting “Malta” and “Slovenia” from the list of independent countries, and

(b) deleting “French Polynesia” and “New Caledonia” from the list of nonindependent countries and territories, effective with respect to articles entered, or withdrawn from warehouse for consumption, on or after January 1, 2002.

(3) Any provisions of previous proclamations and Executive Orders that are inconsistent with the actions taken in this proclamation are superseded to the extent of such inconsistency.

IN WITNESS WHEREOF, I have hereunto set my hand this sixth day of July, in the year of our Lord two thousand, and of the Independence of the United States of America the two hundred and twenty-fifth.

wj

[FR Doc. 00-17571

Filed 7-7-00; 10:39 am]

Billing code 3195-01-P